DEPARTMENT OF COMMERCE

National Oceanic and Atmospheric Administration

Western Pacific Fishery Management Council; Public Meetings; Addendum

AGENCY: National Marine Fisheries Service (NMFS), National Oceanic and Atmospheric Administration (NOAA), Commerce.

ACTION: Notice of public meetings and hearings.

SUMMARY: The Western Pacific Fishery Management Council (Council) will hold meetings of its 119th Scientific and Statistical Committee (SSC) and its 163rd Council meeting to take actions on fishery management issues in the Western Pacific Region. The Council will also convene meetings of the Pelagic and International Standing Committee, Fishery Data Collection and Research Committee (FDCRC), Hawaii Standing Committee, and Executive and Budget Standing Committee. The omnibus amendment to establish the pacific islands annual catch limit specification process (action item) has been added to the 163rd meeting under 6.C.3.

DATES: The SSC meeting will be held between 8:30 a.m. and 5 p.m. on June 9-11, 2015. The Council's Pelagic and International Standing Committee and the FDCRC meetings will be held between 10 a.m. and noon on June 15, 2015; Hawaii Standing Committee meeting will be held between 1 p.m. and 3 p.m. on June 15, 2015; Executive and Budget Standing Committee meeting will be held between 3 p.m. and 5 p.m. on June 15, 2015; and the 163rd Council meeting will be held between 8:30 a.m. and 5 p.m. on June 16-18, 2015. In addition, the Council will host a Fishers Forum on June 17, 2015, between 6 p.m. and 9 p.m.

Location: The 119th SSC on June 9-11, 2015, and the Pelagic and International Standing Committee, FDCRC, Hawaii Standing Committee, and Executive and Budget Standing Committee on June 15, 2015, will be held at the Council office in Honolulu, Hawaii. The Council Meeting on June 16-18, 2015, and the Fishers Forum on June 17, 2015, will be held at the Harbor View Center, Pier 38, Honolulu, Hawaii.

For specific times and agendas, see SUPPLEMENTARY INFORMATION.

ADDRESSES: The 119th SSC, Pelagic and International Standing Committee, FDCRC, Hawaii Standing Committee, and Executive and Budget Standing Committee will be held at the Council office, 1164 Bishop Street, Suite 1400, Honolulu, HI 96813, phone: (808)522-8220. The 163rd Council meeting and the Fishers Forum will be held at the Harbor View Center, Pier 38, 1129 North Nimitz Highway, Honolulu, Hawaii 96817, phone: (808)983-1200. Background documents will be available from, and written comments should be sent to, Mr. Edwin Ebisui, Chair, Western Pacific Fishery Management Council, 1164 Bishop Street, Suite 1400, Honolulu, Hawaii HI 96813, phone: (808)522-8220 or fax: (808)522-8226.

FOR FURTHER INFORMATION CONTACT: Kitty M. Simonds, Executive Director, phone (808)522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for 119th SSC Meeting

8:30 a.m.-5 p.m. Tuesday, June 9, 2015

1. Introductions

2. Approval of Draft Agenda and Assignment of Rapporteurs

3. Status of the 118th SSC Meeting Recommendations

4. Report from the Pacific Islands Fisheries Science Center Director

5. Insular Fisheries

A. Review of the Bottomfish Stock Assessment Update for American Samoa, Guam, and Commonwealth of Northern Mariana Islands (CNMI)

B. Report on the Data Workshop for the MHI Deep 7 Bottomfish

C. Main Hawaiian Islands (MHI) Deep 7 Bottomfish P-Star Working Group Report

D. Specification of Acceptable Biological Catch for the MHI Deep 7 Bottomfish Fishery for Fishing Year 2015-2016 (Action Item)

E. Evaluation of 2014 Catch to the 2014 Annual Catch Limits

F. Report From the Council Advisory Groups

1. Joint Archipelagic Plan Team

2. Fishery Data Collection and Research Committee—Technical Committee

3. Advisory Panel

G. Public Comment

H. SSC Discussion and Recommendations

6. Program Planning

A. Overview of Management Strategy Evaluation Use in Fisheries

B. Report on SSC Subgroup Comments NS1, 3, and 7 Guidelines Proposed Rule

C. Western Pacific Regional Fishery Management Council 5-year Research Priorities

D. Annual Report Changes

E. Cooperative Research Priorities and Framework

F. Report from the Council Advisory Groups

1. Advisory Panel

2. Joint Archipelagic Plan Team

3. Pelagic Plan Team

G. Public Comment

H. SSC Discussion and Recommendations

8:30 a.m.-5 p.m. Wednesday, June 10, 2015

7. Pelagic Fisheries

A. Hawaii Yellowfin and Bigeye Commercial Minimum Size Limit

1. Hawaii Yellowfin Population Model

2. Hawaii Yellowfin Survey Plan

B. Report on Hawaii Catch Shares Meeting

C. International Fisheries

1. Report on Purse Seine Bigeye Tuna (BET) Workshop

2. Report on Longline Vessel Day Scheme (VDS)

3. Report on Tokelau Agreement

D. Report from the Council Advisory Groups

1. Pelagic Plan Team

2. Joint Archipelagic Plan Team

3. Advisory Panel

E. Public Comment

F. SSC Discussion and Recommendations

8. Protected Species

A. Green Sea Turtle Status Review and Proposed Rule

B. Humpback Whale Status Review and Proposed Rule

C. Marine Mammals Reported under Catch Lost to Predators on Fishermen's Commercial Catch Reports to the State of Hawaii

D. Pilot Study of Interactions between Cetaceans and Small-Boat Fishing Operations in the Main Hawaiian Islands

E. Report of the False Killer Whale Take Reduction Team Meeting

F. Statistical Control Chart Approach for Wildlife Monitoring

G. Report of SSC Subcommittee on False Killer Whale Stock Boundary Revision and Bycatch Proration

H. Updates on Other Endangered Species Act and Marine Mammal Protection Act Actions

I. Report From the Council Advisory Groups

1. Protected Species Advisory Committee

2. Advisory Panel

3. Joint Archipelagic Plan Team

J. Public Comment

K. SSC Discussion and Recommendations

8:30 a.m.-5 p.m. Thursday, June 11, 2015

9. Other Business

A. 120th SSC Meeting

10. Summary of SSC Recommendations to the Council

Schedule and Agenda for the FDCRC

10 a.m.-Noon Monday, June 15, 2015

1. Welcome Remarks

2. Introductions

3. Update on Previous FDCRC Recommendations

4. Report on FDCRC-Technical Committee

a. Prioritization of Tasks

b. Endorsement of Proposals for Funding

c. Funding Identification

5. Alternative Summarization and Analytics Interface

6. Reporting Framework on Improvements by FDCRC Members

7. Public Comment

8. Discussions and Recommendations

Schedule and Agenda for Council Standing Committee Meetings

10 a.m.-Noon Monday, June 15, 2015

Pelagic and International Standing Committee

A. International

1. Report on Purse Seine BET Workshop

2. Report on Logline Vessel Day Scheme

B. Domestic

1. Hawaii Yellowfin and Bigeye Commercial Minimum Size Limit Update

2. Hawaii Cross Seamount Fishery Review

C. SSC Recommendations

D. Council Discussion and Recommendations

1 p.m.-3 p.m. Monday, June 15, 2015

Hawaii Standing Committee

1. Main Hawaiian Islands Bottomfish

a. P-star Working Group Report

b. MHI Deep-7 Bottomfish Data Workshop Report

c. Specification of Annual Catch Limit for the MHI Deep-7 Bottomfish Fishery for 2015-2016 Fishing Year

2. Other Issues

3. Discussion and Recommendations

3 p.m.-5 p.m. Monday, June 15, 2015

Executive and Budget Standing Committee

1. Administrative Report

2. Financial Report

3. Magnuson Stevens Act reauthorization

4. Standard Operating Policies and Procedures

5. Meetings and Workshops

6. Council Family Changes

7. Other Issues

8. Committee Discussion and Action

Schedule and Agenda for 163rd Council Meeting

8:30 a.m.-5 p.m. Tuesday, June 16, 2015

1. Welcome and Introductions

2. Approval of the 163rd Agenda

3. Approval of the 162nd Meeting Minutes

4. Executive Director's Report

5. Agency Reports

A. National Marine Fisheries Service

1. Pacific Islands Regional Office

2. Pacific Islands Fisheries Science Center

B. NOAA Office of General Counsel, Pacific Islands Section

C. US Fish and Wildlife Service

D. Enforcement

1. US Coast Guard

2. NOAA Office of Law Enforcement

3. NOAA Office of General Counsel, Enforcement Section

E. Public Comment

F. Council Discussion and Action

6. Program Planning and Research

A. National Standard Guidelines 1, 3 & 7 SSC Subgroup Report

B. Research Priorities

1. WPRFMC Five-Year Priorities

2. Cooperative Research Priorities

C. Stock Assessments

1. Western Pacific Stock Assessment Review (WPSAR) Policy

2. Review of Bottomfish Stock Assessment Update for American Samoa, Guam and CNMI

3. Omnibus Amendment To Establish the Pacific Islands Annual Catch Limit Specification Process (Action Item)

D. Evaluation of 2014 Annual Catch Limits

E. Update on Fishery Ecosystem Plan Review

F. Update on Fisheries Internship and Student Help Project

G. Report on Presidential Task Force on Illegal, Unreported, and Unregulated (IUU) Fishing

H. US Insular Areas Climate Change Meeting

I. Regional, National and International Outreach & Education

J. Advisory Group Report and Recommendations

1. Fishery Data Collection and Research Committee

2. Protected Species Advisory Committee

3. Advisory Panel

4. Joint Archipelagic Plan Team

5. Pelagic Plan Team

6. Scientific & Statistical Committee

K. Public Comment

L. Council Discussion and Action

8:30 a.m.-5 p.m. Wednesday, June 17, 2015

7. American Samoa Archipelago

A. Motu Lipoti

B. Fono Report

C. Enforcement Issues

D. Community Activities and Issues

1. Report on the Governor's Fisheries Task Force Initiatives

a. Fisheries Development

b. American Samoa Purse Seine Vessels and WCPFC Limits

c. Update on Fisheries Disaster Relief Project

2. Update on the Fagatogo Market

3. Update on Funding for Super Alia Vessels and Local Fishery Business Development Initiatives

E. UN Decolonization

F. Education and Outreach Initiatives

G. Advisory Group Report and Recommendations

1. Protected Species Advisory Committee

2. Advisory Panel

3. Joint Archipelagic Plan Team

4. Pelagic Plan Team

5. Scientific & Statistical Committee

H. Public Comment

I. Council Discussion and Action

8. Hawaii Archipelago & Pacific Remote Island Areas (PRIA)

A. Moku Pepa

B. Legislative Report

C. Enforcement Issues

D. Main Hawaiian Islands Bottomfish (MHI)

1. P-Star Working Group Report

2. MHI Deep-7 Bottomfish Data Workshop Report

3. Specification of Annual Catch Limit for the MHI Deep-7 Bottomfish Fishery for 2015-2016 Fishing Year (Action Item)

E. Community Activities and Issues

1. Council Comments on Hawaiian Islands Humpback Whale National Marine Sanctuary Management Plan

F. Education and Outreach Initiatives

G. Advisory Group Report and Recommendations

1. Protected Species Advisory Committee

2. Advisory Panel

3. Joint Archipelagic Plan Team

4. Pelagic Plan Team

5. Scientific & Statistical Committee

H. Standing Committee Recommendations

I. Public Hearing

J. Council Discussion and Action

9. Protected Species

A. Green Sea Turtle

1. Status Review and Proposed Rule

2. Council Comments on Proposed Rule

B. Humpback Whale

1. Status Review and Proposed Rule

2. Council Comments on Proposed Rule

C. False Killer Whales (FKW)

1. Report of FKW Take Reduction Team

2. Council Comments on TRT Recommendations

D. Report of SSC Subcommittee on FKW Stock Boundary Revision and Bycatch Proration

E. Updates on Other Endangered Species Act and Marine Mammal Protection Act

F. Advisory Group Report and Recommendations

1. Protected Species Advisory Committee

2. Advisory Panel

3. Pelagic Plan Team

4. Scientific & Statistical Committee

G. Public Comment

H. Council Discussion and Action

10. Public Comment on Non-agenda Items

6 p.m.-9 p.m. Wednesday, June 17, 2015

Fishers Forum: Seafood Safety and Traceability

8:30 a.m.-5 p.m. Thursday, June 18, 2015

11. Mariana Archipelago

A. Guam

1. Isla Informe

2. Legislative Report

3. Enforcement Issues

4. Community Activities and Issues

a. Status Report on Fishing Platform

b. Malesso Community Based Management Program (CBMP) Implementation

c. Report on Village of Yigo CBMP Meeting

d. Report on Indigenous Fishing Rights Initiatives

e. Micronesian Fishing Community Project Update

5. Education and Outreach Initiatives

B. CNMI

1. Arongol Falú

2. Legislative Report

3. Enforcement Issues

4. Community Activities and Issues

a. Report on Northern Islands CBMP Meeting

b. Council Comments on CNMI Joint Military Training Environmental Impact Statement (EIS)

5. Education and Outreach Initiatives

C. Update on Marianas Trench Marine National Monument

D. Advisory Group Report and Recommendations

1. Protected Species Advisory Committee

2. Advisory Panel

3. Joint Archipelagic Plan Team

4. Pelagic Plan Team

5. Scientific & Statistical Committee

E. Public Comment

F. Council Discussion and Action

12. Pelagic & International Fisheries

A. Hawaii Yellowfin and Bigeye Commercial Minimum Size Limit Update

B. Hawaii Cross Seamount Fishery Review

C. Report on Hawaii Catch Shares Meeting

D. International Fisheries

1. Report on Purse Seine BET Workshop

2. Report on Longline VDS

3. Tokelau Arrangement Update

E. Advisory Group Report and Recommendations

1. Protected Species Advisory Committee

2. Advisory Panel

3. Pelagic Plan Team

4. Joint Archipelagic Plan Team

5. Scientific & Statistical Committee

F. Standing Committee Recommendations

G. Public Comment

H. Council Discussion and Recommendations

13. Administrative Matters

A. Financial Reports

B. Administrative Reports

C. Council Family Changes

1. Advisory Panel Alternate Selection

2. Plan Team Realignment

3. SSC Membership

D. Magnuson Stevens Act Reauthorization

E. Standard Operating Policies and Procedures

F. Meetings and Workshops

1. Council Coordination Committee Meeting

G. Other Business

H. Standing Committee Recommendations

I. Public Comment

J. Council Discussion and Action

14. Other Business

Non-Emergency issues not contained in this agenda may come before the Council for discussion and formal Council action during its 163rd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least five days prior to the meeting date.

Authority: 16 U.S.C. 1801 et seq.

Dated: May 21, 2015.
Tracey L. Thompson,
Acting Deputy Director, Office of Sustainable Fisheries, National Marine Fisheries Service.

[FR Doc. 2015-12721 Filed 5-26-15; 8:45 am]

BILLING CODE 3510-22-P